ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, May 9-11, 2011, at the times and location noted below.

DATES: The schedule of events is as follows:

Monday, May 9, 2011

10:45-11:15 a.m. Budget Committee

11:15-Noon Technical Programs Committee

1:30-2:15 p.m. Planning and Evaluation Committee

2:30-4 p.m. Ad Hoc Committee Meetings: Closed to Public

Tuesday, May 10, 2011

2:45-4 p.m. Ad Hoc Committee Meetings: Closed to Public

Wednesday, May 11, 2011

9:30-10:30 a.m. Ad Hoc Committee on Outdoor Developed Areas: Closed to Public

10:45-Noon Presentation on issues for people who are deaf/blind

1:30-3 p.m. Board Meeting

ADDRESSES: All meetings will be held at the Access Board Conference Room, 1331 F Street, NW., suite 800, Washington, DC 20004.

FOR FURTHER INFORMATION CONTACT: For further information regarding the meetings, please contact David Capozzi, Executive Director, (202) 272-0010 (voice); (202) 272-0082 (TTY).

SUPPLEMENTARY INFORMATION: At the Board meeting scheduled on the afternoon of Wednesday, May 11, 2011, the Access Board will consider the following agenda items:

• Approval of the draft March 9, 2011 meeting minutes.

• Budget Committee Report.

• Technical Programs Committee Report.

• Planning and Evaluation Committee Report.

• Ad Hoc Committee Reports.

○ Medical Diagnostic Equipment—Notice of Proposed Rulemaking (vote).

• Executive Director's Report.

• Public Comment, Open Topics.

All meetings are accessible to persons with disabilities. An assistive listening system, computer assisted real-time transcription (CART), and sign language interpreters will be available at the Board meeting and committee meetings. Persons attending Board meetings are requested to refrain from using perfume, cologne, and other fragrances for the comfort of other participants (see http://www.access-board.gov/about/policies/fragrance.htm for more information).

David M. Capozzi,
Executive Director.

[FR Doc. 2011-9247 Filed 4-15-11; 8:45 am]

BILLING CODE 8150-01-P